DEPARTMENT OF HOUSING AND URBAN DEVELOPMENT

[Docket No. FR-5291-N-01]

Privacy Act of 1974; Notice of a Computer Matching Program Between the U.S. Department of Housing and Urban Development (HUD) and the Department of Justice (DOJ)

AGENCY: Office of the Chief Information Officer, HUD.

ACTION: Notice of a Computer Matching Program Between HUD and the DOJ.

SUMMARY: Pursuant to the Privacy Act of 1974 (5 U.S.C. 552a), as amended by the Computer Matching and Privacy Protection Act of 1988, as amended (Pub. L. 100-503), and the Office of Management and Budget (OMB) Guidelines on the Conduct of Matching Programs (54 FR 25818 (June 19, 1989)); and OMB Bulletin 89-22, “Instructions on Reporting Computer Matching Programs to the Office of Management and Budget (OMB), Congress and the Public,” HUD proposes to issue public notice of its intent to conduct a new computer matching program using data from DOJ's systems of records. The matching program will involve the utilization of a computer information system of HUD, the Credit Alert Interactive Verification Reporting System (CAIVRS), which will include DOJ's debtor files. The CAIVRS database includes delinquent debt information from the Departments of Agriculture, Education, Veterans Affairs and the Small Business Administration. Also, judgment lien data is included from the Department of Justice.

FOR FURTHER INFORMATION CONTACT: The Recipient Agency, Donna Robinson-Staton, Departmental Privacy Act Officer, Department of Housing and Urban Development, 451 Seventh Street, SW., Room 2256, Washington, DC 20410, telephone number (202) 402-8073 or the Source Agency, Diane E. Watson, Debt Collection Management, Nationwide Central Intake Facility (NCIF), Department of Justice, 1620 L Street, NW., Washington, DC 20036, telephone number (301) 427-0077. (These are not toll-free numbers.) A telecommunication device for hearing- and speech-impaired individuals TTY is available at 1-800-877-8339 (Federal Information Relay Service).

DATES: Effective Date: The effective date of the matching program shall begin March 30, 2009 or at least 40 days from the date copies of the signed (by both agencies' Data Integrity Boards (DIBs)) computer matching agreement are sent to the Office of Management and Budget (OMB) and both Houses of Congress, whichever is later, providing no comments are received which would result in a contrary determination.

Comments Due Date: March 30, 2009.

SUPPLEMENTARY INFORMATION: This notice supersedes notice published in the Federal Register on April 5, 2006 at 71 FR 17129. This match will allow prescreening of applicants for debts owed or loans guaranteed by the federal government to ascertain if the applicant is delinquent in paying a debt owed to or insured by the federal government. Before granting a loan, a lending agency and/or an authorized lending institution will be able to interrogate the CAIVRS debtor file, which contains the Social Security Numbers (SSNs) of HUD's delinquent debtors and defaulter files of the DOJ and verify that the loan applicant is not in default on a federal judgment or delinquent on direct or guaranteed loans of participating federal programs. As a result of the information produced by this match, the authorized users may not deny, terminate, or make a final decision on any loan assistance to an applicant or take other adverse action against such applicant, until an officer or employee of such agency has independently verified such information.

Reporting of Matching Program

In accordance with Public Law 100-503, the Computer Matching and Privacy Protection Act of 1988, as amended, and OMB Bulletin 89-22, “Instructions on Reporting Computer Matching Programs to the Office of Management and Budget (OMB), Congress and the Public,” copies of this notice and report are being provided to the Committee on Government Reform of the House of Representatives, the Committee on Homeland Security and Governmental Affairs of the Senate, and the Office of Management and Budget.

Authority: The matching program will be conducted under the authority of 28 U.S.C. 2301(e) (3611 of the Federal Debt Collection Procedures Act of 1990, Pub. L. 101-647), and Office of Management and Budget (OMB) Circulars A-129 (Managing Federal Credit Programs) and A-70 (Policies and Guidelines for Federal Credit Programs). One of the purposes of all Executive departments and agencies—including HUD—is to implement efficient management practices for federal credit programs. OMB Circular A-129 is issued under the authority of the Budget and Accounting Act of 1921, as amended; the Budget and Accounting Act of 1950, as amended; the Debt Collection Act of 1982 (Pub. L. 97-365; 5 U.S.C. 5514(a)), as amended by the Debt Collection Improvement Act of 1996 (Pub. L. 104-134, section 31001); Section 2653 of Public Law 98-369; 41 U.S.C. 253; the Federal Credit Reform Act of 1990, as amended; the Federal Debt Collection Procedures Act of 1990; the Chief Financial Officers Act of 1990, as amended; Executive Order 8248; the Cash Management Improvement Act Amendments of 1992; and pre-existing common law authority to charge interest on debts and to offset payments to collect debts administratively.

Objectives to be Met By the Matching Program: HUD's primary objective in continuing the existing matching program is to give program agencies and their authorized financial institutions access to a system which allows them to prescreen applicants for loans or loans guaranteed by the Federal government to ascertain if the applicant is delinquent in paying a debt owed to or insured by the Government. By identifying those individuals or corporations against whom the DOJ has filed a judgment, the federal government can expand the prescreening search of their loan applicants to further avoid lending to applicants who are credit risks. As part of this process, HUD will be provided access to DOJ's debtor data for prescreening purposes. Each month HUD/CAIVRS receives limited information on borrowers who have defaulted on loans administered by participating federal agencies. This information includes: Social Security Number (SSN) or Employer Identification Number (EIN), case number, Federal Agency identifying code, and record type. Participating agencies also provide HUD with a file containing authorized lenders/business partners. Participating Federal agency personnel or authorized lenders that require access to CAIVRS, must enter a user authorization code followed by either an SSN or EIN (for businesses and non-profits). Only the following information is returned/displayed to the authorized users of CAIVRS:

• Yes/No as to whether the holder of that SSN/EIN is in default on a Federal loan; and

• If Yes, then CAIVRS provides to the lender:

• Loan case number;

• Record type (claim, default, foreclosure, or judgment);

• Agency administering the loan program; and

• Phone # at that agency (to call to clear up the default)

• Confirmation Code associated with the query

By law, processing of applications for Federal Credit benefits (such as government-insured loans) must be suspended when applicants are delinquent on Federal debt. Processing may continue only when the debtor satisfactorily resolves the debt (e.g., pays in full or renegotiates a new payment plan). To remove a CAIVRS sanction, the borrower must use the information provided to contact the agency that reported their SSN or EIN to HUD/CAIVRS.

Records to be Matched: HUD will use records from its systems of records entitled, HUD/SFH-01, Single Family Default Monitoring System; HUD/SFH-02, Single Family Insurance System CLAIMS Subsystem; HUD/HS-55, Debt Collection Asset Management System; and HUD/HS-57, Single Family Mortgage Notes. The debtor files for programs involved are included in these systems of records. HUD's debtor files contain information on borrowers and co-borrowers who are currently in default (at least 90 days delinquent on their loans or who have had their partial claim subordinate mortgage called due and payable and it has not been repaid in full); or who have any outstanding claims paid during the last three years on a Title II insured or guaranteed home mortgage loans; or individuals who had a claim paid in the last three years on a Title I loan. The DOJ will provide HUD with debtor files maintained in two DOJ systems of records. The first is entitled “Justice/JMD-006, Debt Collection Management System and the second is entitled “Justice/USA-015, Debt Collection Enforcement System. The DOJ debtor files contain information on individuals or corporations against who have defaulted on federal judgments. The DOJ will retain ownership and responsibility for their system of records that they place with HUD. HUD serves only as a record location and routine use recipient for DOJ's data.

Notice Procedures: HUD will notify individuals at the time of application (ensuring that routine use appears on the application form) for guaranteed or direct loans that their records will be matched to determine whether they are delinquent or in default on a federal debt. HUD and DOJ will also publish notices concerning routine use disclosures in the Federal Register to inform individuals that a computer match may be performed to determine a loan applicant's credit status with the federal government.

Categories of Records/Individuals Involved: The debtor records include data elements from HUD's systems of records: SSN, claim number, program code, and indication of indebtedness. Categories of records include: records of claims and defaults, repayment agreements, credit reports, financial statements, and records of foreclosures, and financial judgment liens. Categories of individuals include: former mortgagors and purchasers of HUD-owned properties, and home improvement loan debtors who are delinquent or in default (at least 90 days delinquent on their loans or who have had their partial claim subordinate mortgage called due and payable and it has not been paid in full); or who have any outstanding claims paid during the last three years on a title II insured or guaranteed home mortgage loans; or individuals who has a claim paid in the last three years on a Title I loan, and individuals or corporations against whom judgments have been filed by DOJ.

Period of Match: Matching will begin at least 40 days from the date copies of the signed (by both agencies Data Integrity Boards) computer matching agreements are sent to OMB and both Houses of Congress or at least 30 days from the date this notice is published in the Federal Register, whichever is later, providing no comments are received which would result in a contrary determination. The matching program will be in effect and continue for 18 months with an option to renew for 12 additional months unless one of the parties to the agreement advises the other in writing to terminate or modify the agreement.

Dated: February 6, 2009.
Lynn Allen,
Acting Chief Information Officer.

[FR Doc. E9-4189 Filed 2-26-09; 8:45 am]

BILLING CODE 4210-67-P